DEPARTMENT OF EDUCATION

Direct Grant and Fellowship Programs

AGENCY: Department of Education

ACTION: Notice reopening application deadline dates for certain direct grant and fellowship programs.

SUMMARY: The Secretary reopens the deadline dates for the submission of applications by certain applicants (see ELIGIBILITY) under certain direct grant and fellowship programs. All of the affected competitions are among those under which the Secretary is making new awards for fiscal year (FY) 2003. The Secretary takes this action to allow more time for the preparation and submission of applications by potential applicants adversely affected by severe weather conditions resulting from the typhoon in Guam and the severe ice storm in North Carolina. The reopenings are intended to help these potential applicants compete fairly with other applicants under these programs.

Note: One of the affected programs or competitions is administered by the Department's Office of Elementary and Secondary Education and two are administered by the Office of Postsecondary Education. You can find information related to each of these competitions under the “List of Programs Affected” in this notice.

ELIGIBILITY: The reopening of deadline dates in this notice applies to you if you are a potential applicant from Guam which was severely affected by the recent typhoon or if you are a potential applicant in an area of North Carolina that the President has declared a disaster area as a result of the severe ice storm. In the case of the Jacob K. Javits Fellowship Program, the reopening of the deadline date applies to you if you live in or attend an institution of higher education in one of these areas. These areas include the following:

State/territory | County
North Carolina | Alamance, Alexander, Anson, Burke, Cabarrus, Catawba, Chatham, Cleveland, Davidson, Durham, Edgecombe, Forsyth, Franklin, Gaston, Ganville, Guilford, Halifax, Harnett, Iredell, Lee, Lincoln, McDowell, Mecklenburg, Montgomery, Moore, Nash, Orange, Person, Randolph, Rowan, Rutherford, Stanly, Union, Vance, and Wake.
Guam |

DATES: The new deadline date for transmitting applications under each competition is listed with that competition.

If the program in which you are interested is subject to Executive Order 12372, the deadline date for the transmittal of State process recommendations by State Single Points of Contact (SPOCs) and comments by other interested parties remains as originally posted.

ADDRESSES: The address and telephone number for obtaining applications for, or information about, an individual program are in the application notice for that program. We have listed the date and Federal Register citation of the application notice for each program.

If you use a telecommunications device for the deaf (TDD), you may call the TDD number, if any, listed in the individual application notice. If we have not listed a TDD number, you may call the Federal Information Relay Service (FIRS) at 1-800-877-8339.

If you are an individual with a disability, you may obtain a copy of this notice in an alternative format (e.g., Braille, large print, audiotape, or computer diskette) on request to the contact person listed in the individual application notices.

If you want to transmit a recommendation or comment under Executive Order 12372, you can find the latest list and addresses of individual SPOCs on the Web site of the Office of Management and Budget at the following address: http://www.whitehouse.gov/omb/grants

SUPPLEMENTARY INFORMATION: The following is specific information about each of the programs or competitions covered by this notice:

BILLING CODE 4000-01-U

BILLING CODE 4000-01-C

Electronic Access to This Document: You may view this document, as well as all other Department of Education documents published in the Federal Register, in text or Adobe Portable Document Format (PDF) on the Internet at the following site: www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Dated: December 24, 2002.
Jack Martin,
Chief Financial Officer.

[FR Doc. 02-32840 Filed 12-27-02; 8:45 am]

BILLING CODE 4000-01-U